DEPARTMENT OF TRANSPORTATION

Federal Aviation Administration

14 CFR Part 39

[Docket No. 2000-NM-27-AD]

RIN 2120-AA64

Airworthiness Directives; Boeing Model 727-100 Series Airplanes

AGENCY: Federal Aviation Administration, DOT.

ACTION: Proposed rule; withdrawal.

SUMMARY: This action withdraws a notice of proposed rulemaking (NPRM) that proposed a new airworthiness directive (AD), applicable to certain Boeing Model 727-100 series airplanes. That action would have required repetitive inspections to detect corrosion of the lower surface of the wing center section and the surrounding area, and follow-on actions. Since the issuance of the NPRM, the Federal Aviation Administration (FAA) has received new information that indicates that the unsafe condition does not exist on the airplanes identified in the proposed rule. Accordingly, the NPRM is withdrawn.

FOR FURTHER INFORMATION CONTACT: Stan Wood, Aerospace Engineer, Airframe Branch, ANM-120S, FAA, Transport Airplane Directorate, 1601 Lind Avenue, SW., Renton, Washington 98055-4056; telephone (425) 227-2772; fax (425) 227-1181.

SUPPLEMENTARY INFORMATION: A proposal to amend part 39 of the Federal Aviation Regulations (14 CFR part 39) to add a new airworthiness directive (AD), applicable to certain Boeing Model 727-100 series airplanes, was published in the Federal Register as a Notice of Proposed Rulemaking (NPRM) on April 5, 2000 (65 FR 17827). The NPRM would have required repetitive inspections to detect corrosion of the lower surface of the wing center section and the surrounding area, and follow-on actions. The NPRM was prompted by a report from the manufacturer indicating that the affected airplanes were subject to corrosion progression through the lower surface of the wing center section into the center wing fuel tank, and subsequent fuel leakage into the ram air duct. The proposed actions were intended to detect and correct such conditions, which, if combined with a leak in the primary or secondary heat exchanger, could result in the release of fuel vapors into the cabin and consequent adverse effects on flight crew and passengers.

Actions Since the NPRM Was Issued

Since the issuance of the NPRM, the FAA has received new information concerning the configuration of Model 727-100 series airplanes, which are identified in the applicability of the NPRM. The NPRM was based on configuration similarities between those airplanes and Model 727-200 series airplanes, which are identified in the applicability of AD 85-24-02, amendment 39-5170 (50 FR 47356, November 18, 1985). That AD addresses a corrosion problem in the area of the lower surface of the wing center section, which forms the upper wall of the ram air plenum chambers. As a result of the corrosion problem, fuel leaked into the plenum chambers and fuel vapors were circulated into the airplane air conditioning system and cockpit. The FAA has verified that the configuration of the subject area on Model 727-100 series airplanes is not the same as that on Model 727-200 series airplanes. Therefore, the three Model 727-100 series airplanes affected by the NPRM are not susceptible to the unsafe condition.

FAA's Conclusions

Upon further consideration, the FAA has determined that the identified unsafe condition does not exist on the airplanes identified in the NPRM. Accordingly, the proposed rule is hereby withdrawn.

Withdrawal of this notice of proposed rulemaking constitutes only such action, and does not preclude the agency from issuing another notice in the future, nor does it commit the agency to any course of action in the future.

Regulatory Impact

Since this action only withdraws a notice of proposed rulemaking, it is neither a proposed nor a final rule and therefore is not covered under Executive Order 12866, the Regulatory Flexibility Act, or DOT Regulatory Policies and Procedures (44 FR 11034, February 26, 1979).

List of Subjects in 14 CFR Part 39

Air transportation, Aircraft, Aviation safety, Safety.

The Withdrawal

Accordingly, the notice of proposed rulemaking, Docket 2000-NM-27-AD, published in the Federal Register on April 5, 2000 (65 FR 17827), is withdrawn.

Issued in Renton, Washington, on July 10, 2001.
Donald L. Riggin,
Acting Manager, Transport Airplane Directorate, Aircraft Certification Service.

[FR Doc. 01-17759 Filed 7-16-01; 8:45 am]

BILLING CODE 4910-13-U